DEPARTMENT OF LABOR

Employment and Training Administration

[TA-W-37,900, et al.]

OXY USA, Inc., Houston, Texas, et al.; Notice of Revised Determination on Reopening

On October 10, 2000, the company requested Administrative Reconsideration for workers and former workers of the subject firm engaged in the production of crude oil and natural gas.

The initial investigation resulted in a negative determination issued on August 7, 2000, because imports did not contribute importantly to the worker separations. The notice was published in the Federal Register on September 12, 2000 (65 FR 55049).

New information submitted to the Department by the company as well as recent information on aggregate U.S. imports of crude oil and natural gas which were not available at the time of the initial investigation revealed that production and employment declined. From 1998 to 1999 aggregate U.S. imports for both natural gas and crude oil increased both absolutely and relative to domestic shipments. Further, imports of crude oil increased in the period January through June 2000 compared to the same time period in 1999.

Workers at OXY USA in Houston, Texas and Liberal, Kansas were covered by a previous certification, (TA-W-34,538) which expired on July 8, 2000. Workers at Aransas Pass, Texas and Venice, Louisiana were not covered by a previous certification.

Conclusion

After careful consideration of the new facts obtained on reopening, it is concluded that increased imports of articles like or directly competitive with crude oil and natural gas produced by the subject firm contributed importantly to the decline in sales and to the total or partial separation of workers of the subject firm. In accordance with the provisions of the Trade Act of 1974, I make the following revised determination:

All workers of OXY USA Inc. Houston, Texas (TA-W-37,900); Liberal, Kansas (TA-W-37,900B) who became totally or partially separated from employment on or after July 9, 2000; and all workers of OXY USA Inc., Aransas Pass, Texas (TA-W-37,900A) and Venice, Louisiana (TA-W-37,900C), who became totally or partially separated from employment on or after June 26, 1999 through two years from the date of this certification are eligible to apply for adjustment assistance under Section 223 of the Trade Act of 1974.

Signed at Washington, DC this 19th day of October 2000.
Linda G. Poole,
Certifying Officer, Division of Trade Adjustment Assistance.

[FR Doc. 00-28239 Filed 11-2-00; 8:45 am]

BILLING CODE 4510-30-M